DEPARTMENT OF COMMERCE

National Oceanic and Atmospheric Administration

[Docket No. 001214350-0350-01, I.D. 112700B]

RIN 0648-Z098

Financial Assistance for Research and Development Projects in the Gulf of Mexico and Off the U.S. South Atlantic Coastal States; Marine Fisheries Initiative (MARFIN)

AGENCY: National Marine Fisheries Service (NMFS), National Oceanic and Atmospheric Administration (NOAA), Commerce.

ACTION: Notice.

SUMMARY: Subject to the availability of funds, NMFS, through its MARFIN program, financially assists persons in carrying out research and development projects that optimize the use of fisheries in the Gulf of Mexico and off the South Atlantic States of North Carolina, South Carolina, Georgia, and Florida involving the U.S. fishing industry (recreational and commercial), including fishery biology, resource assessment, socio-economic assessment, management and conservation, selected harvesting methods, and fish handling and processing. This notice describes how to apply for such assistance and how NMFS selects applications for funding.

DATES: Applications for funding under this program will be accepted between February 22, 2001 and 5 p.m. eastern daylight time on April 23, 2001. Applications received after that time will not be considered for funding. No facsimile applications will be accepted.

ADDRESSES:

Send applications to: Ellie Francisco Roche, Chief, State/Federal Liaison Office, Southeast Regional Office, NMFS, 9721 Executive Center Drive, N., St. Petersburg, FL 33702.

FOR FURTHER INFORMATION CONTACT: Ellie Roche; telephone (727) 570-5324.

SUPPLEMENTARY INFORMATION:

I. Authority

The Secretary of Commerce (Secretary) is authorized under 15 U.S.C. 713c-3(d) to carry out a national program of research and development addressed to such aspects of U.S. fisheries (including, but not limited to, harvesting, processing, marketing and to associated infrastructures), if not adequately covered by projects assisted under 15 U.S.C. 713c-3(c), as the Secretary deems appropriate.

II. Catalog of Federal Domestic Assistance

This program is described in the “Catalog of Federal Domestic Assistance” (CFDA) under program number 11.433, Marine Fisheries Initiative (MARFIN).

III. Program Description

MARFIN is a competitive Federal assistance program that funds projects that seek to optimize research and development benefits from U.S. marine fishery resources through cooperative efforts involving the best research and management talents to accomplish priority activities. Projects funded under MARFIN provide answers for fishery needs covered by the NMFS Strategic Plan, available from the Southeast Regional Office (see ADDRESSES), particularly those goals relating to: rebuilding overfished marine fisheries, maintaining currently productive fisheries, and integrating conservation of protected species and fisheries management. Areas of emphasis for MARFIN are formulated from recommendations received from non-Federal scientific and technical experts, and from NMFS research and operations officials.

IV. Funding Availability

Approximately $2.20 million may be available in fiscal year (FY) 2001 for funding projects. This amount includes possible in-house projects and $750,000 for 1-year projects for red snapper research. (See XI. Project Funding Priorities.) Publication of this notice does not obligate NMFS to award any specific cooperative agreement nor to obligate all or any parts of the available funds.

Project proposals accepted for funding for a project period over 1 year that include multiple project components and severable tasks to be funded during each budget period do not compete for funding in subsequent budget periods within the approved project period. However, funding for subsequent project components is contingent upon the availability of funds and satisfactory performance and will be at the sole discretion of the agency.

V. No Matching Requirements

Cost-sharing is not required for the MARFIN program. Applications must provide the total budget necessary to accomplish the project, including contributions and/or donations. The appropriateness of all cost-sharing will be determined on the basis of guidance provided in applicable Federal cost principles. If an applicant chooses to cost-share, and if that application is selected for funding, the applicant will be bound by the percentage of the cost share reflected in the cooperative agreement award.

The non-Federal share may include the value of in-kind contributions by the applicant or third parties or funds received from private sources or from state or local governments. Federal funds may not be used to meet the non-Federal share of matching funds, except as provided by Federal statute. Third party in-kind contributions may be in the form of, but are not limited to, personal services rendered in carrying out functions related to the project and use of real or personal property owned by others (for which consideration is not required) in carrying out the projects. 15 U.S.C. 713c-3(c)(4)(B) provides that the amount of the grant is no less than 50 percent of the estimated cost of the project.

Costs incurred in either the development of a project or the financial assistance application, or time expended in any subsequent discussions or negotiations prior to the award, are neither reimbursable nor recognizable as part of the recipient's cost share.

VI. Type of Funding Instrument

The funding instrument will be a cooperative agreement since NMFS will be substantially involved in developing each project’s research priorities and assisting in the research.

VII. Eligibility Criteria

A. Eligible applicants include institutions of higher education, hospitals and other nonprofit organizations, commercial organizations, and state, local and Indian tribal governments. Federal agencies or institutions are not eligible. Foreign governments, organizations under the jurisdiction of foreign governments, and international organizations are excluded for purposes of this solicitation since the objective of the MARFIN program is to optimize research and development benefits from U.S. marine fishery resources (see III. Program Description).

B. The Department of Commerce, National Oceanic and Atmospheric Administration (DOC/NOAA) is strongly committed to broadening the participation of Historically Black Colleges and Universities, Hispanic Serving Institutions, and Tribal Colleges and Universities in its educational and research programs. DOC/NOAA’s goals are to achieve full participation by Minority Serving Institutions (MSI) in order to advance the development of human potential, to strengthen the nation’s capacity to provide high-quality education, and to increase opportunities for MSIs to participate in and benefit from Federal financial assistance programs. DOC/NOAA encourages all applicants to include meaningful participation of MSIs.

VIII. Award Period

The award period for the project may be up to 3 years, consisting of one, two, or three budget periods. The award period depends upon the duration of funding requested in the application, the decision of the NMFS selecting official on the amount of funding, the results of post-selection negotiations between the applicant and NOAA officials, and pre-award review of the application by NOAA and Department of Commerce (DOC) officials. Normally, each project budget period will be 12 months in duration.

IX. Indirect Costs

The total dollar amount of the indirect costs proposed in an application under this program must not exceed the indirect cost rate negotiated and approved by a cognizant Federal agency prior to the proposed effective date of the award or 25 percent of the Federal share of the total proposed direct costs dollar amount in the application, whichever is less. A copy of the current, approved, negotiated Indirect Cost Agreement with the Federal Government must be included with the application.

X. Application Requirements, Forms and Kit

Before submitting an application under this program, applicants should contact the NMFS Southeast Regional Office for a copy of this solicitation's MARFIN Application Package (see ADDRESSES).

Applications for this project’s funding must be complete and in accordance with instructions in the MARFIN Application Package. Project applications must identify the principal participants, and include copies of any agreements describing the specific tasks to be performed by participants. Project applications should: give a clear presentation of the proposed work, the methods for carrying out the project, its relevance to managing and enhancing the use of Gulf of Mexico and/or South Atlantic fishery resources, and cost estimates as they relate to specific aspects of the project. Budgets must include a detailed breakdown, by category of expenditures, with appropriate justification for both the Federal and non-Federal shares.

Applications should exhibit familiarity with related work that is completed or ongoing. Where appropriate, proposals should be multi-disciplinary. In addition to referencing specific area(s) of special interest, proposals should state whether the research applies to the Gulf of Mexico only, the South Atlantic only, or to both areas. Successful applicants may be required to collect and manage data in accordance with standardized procedures and formats approved by NMFS and to participate with NMFS in specific cooperative activities that are determined by consultations between NMFS and successful applicants before project grants are awarded. All applications must include funding for the principal investigator to participate in an annual MARFIN Conference in Tampa, FL at the completion of the project.

Coordinated efforts involving multiple institutions or persons are encouraged. Women and minority owned and operated non-profit organizations are encouraged to apply. Applicants should not assume prior knowledge on the part of NMFS as to the merits of the project described in the application. Applications must be one-sided and unbound. All incomplete applications are returned to the applicant. Ten copies (one original and nine copies) of each application are required and should be submitted to the NMFS Southeast Regional Office, State/Federal Liaison Office (see). The Office of Management and Budget (OMB) has approved 10 copies, under OMB Control No. 0648-0175.

XII. Project Funding Priorities

A. Priority is given to funding projects that have the greatest probability of recovering, maintaining, improving, or developing fisheries; improving the understanding of factors affecting recruitment success; and/or generating increased values and recreational opportunities from fisheries. Projects are evaluated as to the likelihood of achieving these objectives, with consideration of the magnitude of the eventual economic or social benefits that may be realized. Priority is given to funding projects in the subject areas listed below, but proposals in other areas are considered on a funds-available basis. There is no preference between short-term projects and long-term projects.

1. Bycatch

The bycatch of biological organisms (including interactions with sea turtles and marine mammals) by various fishing gears can have wide-reaching impacts from a fisheries management and an ecological standpoint, with the following major concerns:

a. Shrimp trawl fisheries. Studies are needed to contribute to the regional shrimp trawl bycatch program (including the southern U.S. Atlantic rock shrimp fishery) being conducted by NMFS in cooperation with state fisheries management agencies, commercial and recreational fishing organizations and interests, environmental organizations, universities, Councils, and Commissions. Specific guidance and research requirements are contained in the Cooperative Bycatch Plan for the Southeast, available from NMFS (see ADDRESSES). In particular, the studies should address:

(1) Data collection and analyses to expand and update current bycatch estimates, temporally and spatially emphasizing areas of greatest impact by shrimping. Sampling effort should include estimates of numbers, weight, and random samples of size (age) structure of associated bycatch complex, with emphasis on those overfished species under the jurisdiction of the Councils. Data collection should also include mortality, age, and length information for red drum in both inshore and offshore shrimp fisheries.

(2) Assessment of the status and condition of fish stocks significantly impacted by shrimp trawler bycatch, with emphasis given to overfished species under the jurisdiction of the Councils. Other sources of fishing and nonfishing mortality should be considered and quantified as well.

(3) Identification, development, and evaluation of gear, non-gear, and tactical fishing options to reduce bycatch.

(4) Improved methods for communicating with and improving technology and information transfer to the shrimp industry.

(5) Development and evaluation of statistical methods to estimate the bycatch of priority management species in the Gulf and South Atlantic shrimp trawl fisheries.

b. Pelagic longline fisheries. Several pelagic longline fisheries exist in the Gulf and South Atlantic, targeting highly migratory species, such as tunas, sharks, and swordfish. Priority areas include:

(1) Development and evaluation of gear and fishing tactics to minimize bycatch of undersized and unwanted species, including sea turtles, marine mammals, billfish, and overfished finfish species/stocks.

(2) Assessment of the biological impact of longline bycatch on related fisheries.

c. Reef fish fisheries. The reef fish complex is exploited by a variety of fishing gear and tactics. The following research on bycatch of reef fish species is needed:

(1) Development and evaluation of gear and fishing tactics to minimize the bycatch of undersized and unwanted species, including sea turtles and marine mammals.

(2) Characterization and assessment of the impact of bycatch of undersized target species, including release mortality, during recreational fishing and during commercial longline, bandit gear and trap fishing.

(3) Determination of the release mortality by depth of red snapper caught on commercial bandit rigs that are electrically or hydraulicly powered.

d. Finfish trawl fisheries. Studies are needed on quantification and qualification of the bycatch in finfish trawl fisheries, such as the flounder and fly-net fisheries in the South Atlantic.

e. Gillnet fisheries. Studies are needed on quantification and qualification of the bycatch in coastal and shelf gillnet fisheries for sciaenids, scombrids, bluefish and other dogfish sharks of the South Atlantic and Gulf of Mexico (particularly interaction with sea turtles and marine mammals).

f. Economic considerations of bycatch reduction.

(1) Develop and test models, using actual or hypothesized data, that explicitly consider the economic impacts to the directed fishery and gains to the bycatch fishery. The models should include the effects of the management systems for the directed and bycatch fisheries and should attempt to describe criteria for the correct level of bycatch reduction (e.g., marginal cost and value of reduction are equal).

(2) Develop economic incentives and other innovative alternatives to gear and season/area restrictions as ways to reduce bycatch. The proposal should attempt to contrast the relative costs, potential gains, and levels of bycatch reduction associated with traditional methods and any innovative alternatives addressed by the proposals.

(3) Describe the costs and returns performance of South Atlantic and Gulf of Mexico shrimp fisheries as necessary background for the economics of bycatch reduction. (See Section XIII.A., regarding collection of information.)

2. Reef Fish

Some species within the reef fish complex are exhibiting signs of being overfished, either because of directed efforts or because of being the bycatch of other fisheries. The ecology of reef fish makes them vulnerable to overfishing, because they tend to concentrate over specific types of habitat with patchy distribution. This behavior pattern can make traditional fishery statistics misleading. Priority research areas include:

a. Collection of Basic Biological Data for Species in Commercially and Recreationally Important Fisheries

(1) Age and growth of reef fish. (a) Description of age and growth patterns, especially for red, vermilion, gray, and cubera snappers; gray triggerfish; gag; black grouper; hogfish; red porgy; and other less dominant forms in the management units for which data are lacking.

(b) Contributions to the development of annual age-length keys and description of age structures for exploited populations for all species in the complex addressed in the Reef Fish and Snapper/Grouper Management Plans for the Gulf and South Atlantic, respectively, prioritized by importance in the total catch.

(c) Design of sampling systems to provide a production-style aging program for the reef fish fishery. Effective dockside sampling programs are needed over a wide geographic range, especially for groupers, to collect information on reproductive state, size, age, and sex.

(2) Reproduction studies of reef fish. (a) Maturity schedules, fecundity, and sex ratios of commercially and recreationally important reef fish, especially gray triggerfish, gag, and red porgy in the Gulf and South Atlantic.

(b) Studies of all species to characterize the actual reproductive contribution of females by age.

(c) Identification and characterization of spawning aggregations by species, area, size group and season.

(d) Effects of fishing on changes of sex ratios for gag, red grouper, and scamp, and disruption of aggregations.

(e) Investigations of the reproductive biology of gag, red grouper and other grouper species.

(3) Recruitment of reef fish. (a) Source of recruitment in Gulf and South Atlantic waters, especially for snappers, groupers, and amberjacks.

(b) Annual estimation of the absolute or relative recruitment of juvenile gag, gray snapper, and lane snapper to estuarine habitats off the west coast of Florida and to similar estuarine nursery habitats along the South Atlantic Bight; development of an index of juvenile gag recruitment for the South Atlantic based on historical databases and/or field studies.

(c) The contribution of live-bottom habitat and habitat areas of particular concern (Oculina banks) off Fort Pierce, FL and off west central Florida to reef fish recruitment.

(4) Stock structure of reef fish. (a) Movement and migration patterns of commercially and recreationally valuable reef fish species, especially gag in the Gulf and South Atlantic and greater amberjack between the South Atlantic and Gulf.

(b) Biochemical/immunological and morphological/meristic techniques to allow field separation of lesser amberjack, almaco jack, and banded rudderfish from greater amberjack to facilitate accurate reporting of catch.

(c) Stock structure of wreckfish in the South Atlantic and of greater amberjack in the Gulf and South Atlantic.

b. Population assessment of reef fish. (1) Effect of reproductive mode and sex change (protogynous hermaphroditism) on population size and characteristics, with reference to sizes of fish exploited in the fisheries and the significance to proper management.

(2) Source and quantification of natural and human-induced mortalities, including release mortality estimates for charter boats, headboats, and private recreational vessels, especially for red snapper and the grouper complex.

(3) Determination of the habitat and limiting factors for important reef fish resources in the Gulf and South Atlantic.

(4) Description of habitat and fish populations in the deep reef community and the prey distributions supporting the community.

(5) Development of statistically valid indices of abundance for important reef fish species in the South Atlantic and Gulf, especially red grouper, jewfish, and Nassau grouper.

(6) Assessment of tag performance on reef fish species, primarily snappers and groupers. Characteristics examined should include shedding rate, effects on growth and survival, and ultimately, the effects of these characteristics on estimations of vital population parameters.

(7) Stock assessments to establish the status of major recreational and commercial species. Innovative methods are needed for stock assessments of aggregate species, including the effect of fishing on genetic structure and the incorporation of sex change for protogynous hermaphrodites into stock assessment models.

(8) Assessment of Florida Bay recovery actions on reef fish recruitment and survival.

c. Management of reef fish. (1) Research in direct support of management, including catch-and-release mortalities, by gear and depth.

(2) Evaluation of the use of marine reserves as an alternative or supplement to current fishery management practices and measures for reef fish. Studies should focus on the Experimental Oculina Reef Reserve, the Florida Keys National Marine Sanctuary, as well as on the identification of prime sites for the establishment of reserves in the U.S. south Atlantic and Gulf of Mexico.

(3) Characterization and evaluation of biological impacts (e.g., changes in age or size structure of reef fish populations in response to management strategies).

(4) Evaluation of vessel log data for monitoring the fishery and for providing biological, economic, and social information for management; and methods for matching log data to Trip Information Program samples for indices of effort.

(5) For the U.S. Caribbean, collection of socio-demographic and economic cost and returns data sufficient to evaluate management proposals to limit the use of fish and/or lobster traps.

3. Red Snapper Research

The Sustainable Fisheries Act of 1996 required the Secretary of Commerce to conduct a thorough and independent evaluation of the scientific and management basis for conserving and managing the red snapper fishery. NMFS has developed a research plan to improve the management of red snapper to address this requirement. The research priorities below are based on this research plan.

a. Red Snapper Bycatch. The bycatch of red snapper can have significant impacts from a fisheries management and ecological standpoint. Research on bycatch of red snapper should focus on the following:

(1) Shrimp trawl bycatch of red snapper. Specific guidance and research requirements are contained in the Cooperative Bycatch Plan for the Southeast, available from NMFS (see ADDRESSES). Studies are needed to address:

(a) Identification, development, and evaluation of gear, non-gear, and tactical fishing options to reduce bycatch of red snapper.

(b) Development and evaluation of statistical methods to estimate the bycatch mortality of red snapper in the Gulf shrimp trawl fisheries.

(c) Studies of the survival rates of juvenile red snapper that escape shrimp trawls through bycatch reduction devices (BRDs).

(2) Directed red snapper fisheries. The reef fish fishery is exploited by a variety of fishing gear and tactics. The following research on regulatory discards is needed to better evaluate the effectiveness of management measures such as minimum size limits and closed seasons:

(a) Development and evaluation of gear and fishing tactics to minimize the bycatch of or increase the survival of discarded red snapper and other reef fish species.

(b) Characterization and assessment of the impact of bycatch of undersized reef fish species, including release mortality, during recreational and commercial fishing. Research on the catch-and-release mortality of red snapper and other reef fish species, by gear (e.g. capture by commercial bandit rigs that are electrically or hydraulicly powered), fishery (e.g. headboat, private boat, charter boat, commercial), and depth. Studies are needed to specifically relate “sink or swim” data, which can be obtained through observer programs, with long-term survival rates.

(c) Research to document predation rates on discarded red snapper and other reef fish species.

(3) Economic considerations of bycatch reduction

(a) Develop and test models, using actual or hypothesized data, that explicitly consider the costs and gains of bycatch reduction. The models should include the effects of the management systems for the directed and bycatch fisheries and should attempt to describe criteria for the correct level of bycatch reduction (e.g., marginal cost and value of reduction are equal). Studies should evaluate alternatives to bycatch reduction devices (BRDs).

(b) Develop economic incentives and other innovative alternatives to gear and season/area restrictions as ways to reduce bycatch. The proposal should attempt to contrast the relative costs, potential gains, and levels of bycatch reduction associated with traditional methods and any innovative alternatives addressed by the proposals.

b. Red snapper biological information. Collection of basic biological data on red snapper.

(1) Contributions to the development of annual age-length keys and description of the age structure of red snapper populations.

(2) Design of sampling systems to provide a production-style aging program for the red snapper fishery. Effective dockside sampling programs are needed over a wide geographic range to collect information on reproductive state, size, age, and sex.

(3) Reproduction studies of red snapper.

(a) Maturity schedules, fecundity, and sex ratios of red snapper.

(b) Studies to characterize the actual reproductive contribution of females by age.

(4) Identification of sources of recruitment of red snapper in Gulf waters.

c. Red snapper population assessment. (1) Determination of the habitat and limiting factors for important red snapper populations in the Gulf.

(2) Estimates of red snapper abundance, age structure and population dynamics on oil platforms and other artificial structures.

d. Management of red snapper. (1) Characterization and evaluation of biological impacts (e.g., changes in age or size structure of red snapper populations in response to management strategies).

(2) Research to evaluate the use of minimum size limits as a management tool in the red snapper fishery.

(3) Texas does not participate in the Marine Recreational Fisheries Statistics Survey (MRFSS); thus, research is needed to collect economics data on Texas anglers. Data requirements include those identified in the MRFSS add-on economic survey developed by NMFS. (See Section XIIII.A., regarding collection of information.)

(4) Research to develop bioeconomic models to optimize allocations and benefits derived from the red snapper resource.

4. Coastal Migratory Pelagic Fisheries

The commercial and recreational demand for migratory coastal pelagics has led to overfishing for certain. Additionally, some are transboundary with Mexico and other countries and may ultimately demand international management attention. Current high priorities include:

a. Recruitment indices for king and Spanish mackerel, cobia, dolphin, wahoo, and bluefish, primarily from fishery-independent data sources.

b. Fishery-independent methods of assessing stock abundance of king and Spanish mackerel.

c. Release mortality data for all coastal pelagic species.

d. Improved catch statistics for all species in Mexican waters, with special emphasis on king mackerel, dolphin, and wahoo. This includes length-frequency and life history information.

e. Information on populations of coastal pelagics overwintering off the Gulf of Mexico and the South Atlantic States of North Carolina, South Carolina, Georgia, and Florida, especially concerning population size, age and movement patterns. Calculate the mixing rates for Atlantic/Gulf king mackerel on an annual basis.

f. Development of a practical method for aging dolphin.

g. Basic biostatistics for cobia, dolphin, and wahoo to develop age-length keys and maturation schedules for stock assessments and to evaluate stock structures.

h. Impact of bag limits on total catch and landings of king and Spanish mackerel, dolphin, wahoo, and cobia.

i. Demand and/or supply functions for the commercial king mackerel fisheries, including baseline cost and return data. Cooperative efforts that cover the entire Southeast and employ common methodologies for all geographic areas are strongly encouraged.

j. Sociological and anthropological surveys of coastal pelagic fisheries.

5. Groundfish and Estuarine Fishes

Substantial stocks of groundfish and estuarine species occur in the Gulf and South Atlantic. Most of the database for assessments comes from studies conducted by NMFS and state fishery management agencies. Because of the historic and current size of these fish stocks, their importance as predator and prey species, and their current or potential use as commercial and recreational fisheries, more information on their biology and life history is needed. General research needs are:

a. Red drum. (1) Size and age structure of the offshore adult stock in the Gulf and South Atlantic.

(2) Life history parameters and stock structure for the Gulf and the South Atlantic: Migratory patterns, long-term changes in abundance, growth rates, and age structure. Specific research needs for Atlantic red drum are estimates of fecundity as a function of length and weight and improved coast-wide coverage for age-length keys.

(3) Catch-and-release mortality rates from inshore and nearshore waters.

(4) Estimates of absolute Gulf-wide abundance of red drum.

b. Life history and stock structure for weakfish, menhaden, spot, and croaker in the Gulf and the South Atlantic: Migratory patterns, long-term changes in abundance, growth rates, and age structure and comparisons of the inshore and offshore components of recreational and commercial fisheries.

c. Improved catch-and-effort statistics from recreational and commercial fisheries, including development of age-length keys for size and age structure of the catch, to develop production models. (See Section XIII.A., regarding collection of information.)

d. Abundance and distribution information on spiny dogfish off the coast of North Carolina, and particularly southern North Carolina.

6. Essential Fish Habitat

(a) Determine the effects of fishing gears (e.g., trawls and traps) and practices (e.g., gear retrieval and anchoring) on essential fish habitat (EFH), with emphasis on benthic habitats within the EEZ of the Caribbean, southern U.S. Atlantic, and Gulf of Mexico regions.

(b) Develop scientific data to allow the identification and refinement, as appropriate, of EFH designations for the various life stages of federally managed species.

(c) Develop scientific data to allow the identification and refinement, as appropriate, of Habitat Areas of Particular Concern (HAPC) designation for the various life stages of federally managed species.

(d) Develop GIS mapping protocols and tools to allow the presentation of EFH, HAPC, fishery distribution information, and other relevant data for the southeastern United States, including Puerto Rico and the U.S. Virgin Islands.

7. General

There are many other areas of research that need to be addressed for improved understanding and management of fishery resources. These include methods for data collection, management, analysis, and better conservation. Examples of such research needs include:

a. Identification of fishing communities, characterization of community dependance upon fishery resources and demographics of the families dependent on fishing or fishing related businesses.

b. Development of improved methods and procedures for transferring technology and educating constituency groups concerning fishery management and conservation programs. Of special importance are programs concerned with controlled access and introduction of conservation gear.

c. Design and evaluation of innovative approaches to fishery management with special attention given to those approaches that control access to specific fisheries.

d. Examine the feasibility and efficacy of license buy-back programs.

e. Social, cultural, and /or economic aspects of establishing fishery reserves. Studies should employ accepted data collection methods and should include consumptive users, non-consumptive users, and persons not dependent on use of marine resources. Various management alternatives should be considered in the studies, e.g., exclude all users, exclude all consumptive users, size of reserve, anchoring rules, or any other relevant management tools. (See Section XIII.A., regarding collection of information.)

f. Design and evaluation of limited access options for the red snapper and king mackerel recreational fisheries with specific emphasis on modes of fishing and jurisdictional issues.

g. Estimation of demand models for recreational fishing trips when the target species include a single species, an aggregate of related species, or all species combined. Studies using new data from the Southeast economics add-on to Marine Recreational Fisheries Statistics Survey are highly encouraged. Priority species include red drum Spanish mackerel, red grouper, wahoo,and dolphin.

h. Sociocultural survey of commercial fishing in the Florida Keys. Proposals should address all fishing enterprises including potential sociocultural effects of large marine reserves in the Tortugas area.

i. Studies to evaluate the value of non-consumptive uses of marine resources, especially as related to diving activities and marine reserves.

XIII. Evaluation Process and Criteria

A. Initial Screening of Applications. Applications are reviewed by NOAA’s MARFIN Program Manager to determine whether they are responsive to this solicitation. Applications must: be received by the deadline date (see DATES); include OMB form 424 dated and signed by an authorized representative; be submitted by an eligible applicant; address one of the funding priorities; include a budget, statement of work, and milestones; and identify the principal investigator. The applicant will be notified if the application does not conform to these requirements. If the deadline for submission has passed, the application will be returned to the applicant.

B. Evaluation of Proposed Projects.

1. Technical Evaluation. Applications responsive to this solicitation will be evaluated by three or more appropriate private and public sector experts to determine their technical merit. These reviewers provide comments and assign scores to the applications based on the following criteria, with the weights shown in parentheses:

a. Does the proposal have a clearly stated goal(s) with associated objectives that meet the needs outlined in the project narrative? (30 points maximum)

b. Does the proposal clearly identify and describe, in the project outline and statement of work, scientific methodologies and analytical procedures that will adequately address project goals and objectives? (30 points maximum)

c. Do the principal investigators provide a realistic timetable to enable full accomplishment of all aspects of the research? (20 points maximum)

d. Are effective methods proposed that will enable the principal investigators to maintain stewardship of the project performance, finances, cooperative relationships, and reporting requirements? (10 points maximum)

e. Does the budget appropriately allocate and justify costs? (10 points maximum)

5. Are the proposed costs appropriate for the scope of work proposed? (10 points)

2. Scientific Panel. Applications together with the technical reviewers’ comments and scores are presented to a Scientific Panel composed of NMFS scientific experts. This panel provides comments and rates each proposal as either “Recommended for Funding” or “Not Recommended for Funding” based on qualitative assessments which include a technical evaluation of the merits of the science.

3. MARFIN Panel. Proposals that are “Recommended for Funding” by the Scientific Panel are presented to a panel of non-NOAA fishery experts known as the MARFIN Panel. Each member of the MARFIN Panel individually considers the significance of the needs addressed in each proposal, how the project affects industry, and how the project addresses issues that are of highest importance in regional fisheries management. The individuals on the MARFIN Panel provide comments and rate each of these proposals as either “Recommended for Funding” or “Not Recommended for Funding.”

4. Regional Administrator. The proposals reviewed by the MARFIN Panel are ranked by the Program Manager in the order of preferred funding, based on the number of MARFIN Panel members recommending the proposal for funding, then provided to the Regional Administrator, who is the selecting official. The Regional Administrator also receives the MARFIN Panel members’ individual comments, and comments from the Scientific Panel for projects rated as “Recommended for Funding.”

The Regional Administrator, in consultation with the Assistant Administrator for Fisheries, determines the projects to be funded. The Regional Administrator will justify in writing any selection he makes that falls outside the MARFIN Panel’s order of preferred funding.

The exact amount of funds awarded, the final scope of activities, the project duration, and specific NMFS cooperative involvement with the activities of each project are determined in pre-award negotiations between the applicant, the NOAA Grants Office and the NMFS Program Office. Projects must not be initiated by recipients until a signed award is received from the NOAA Grants Office. Successful applications generally are recommended within 210 days from the date of publication of this notice. The earliest start date of awards average 90 days after each project is selected and after all NMFS/applicant negotiations of cooperative activities have been completed. The earliest start date of awards is about 300 days after the date of publication of this notice. Applicants should consider this selection and processing time in developing requested start dates for their applications.

C. NMFS can, at its discretion:

1. Consult with members of the fishing industry, management agencies, environmental organizations, and academic institutions. NMFS may, at its discretion, request comments from members of the fishing and associated industries, groups, organizations, and institutions who have knowledge in the subject matter of a project or who would be affected by a project.

2. Consult with Government agencies. Applications may be reviewed by the NMFS Southeast Region Program Office in consultation with the NMFS Southeast Fisheries Science Center, including appropriate operations and laboratory personnel, the NOAA Grants Office and, as appropriate, DOC bureaus and other Federal agencies.

XIII. Other Requirements

A. Federal policies and procedures. Recipients and subrecipients are subject to all Federal laws and Federal and DOC policies, regulations, and procedures applicable to Federal financial assistance awards. Women and minority individuals and groups are encouraged to submit applications under this program. If a grant is made that specifically requires the collection of information from the public, the grantee will be responsible for preparing the documentation necessary to obtain Paperwork Reduction Act (PRA) approval prior to the start of the collection. This approval process takes a minimum of 4 months. This provision especially applies to priorities 1(f)(3), 3(d)(3), 5(c), and 7(e). Information on the PRA process can be found at the following Web site address: www.rdc.noaa.gov/ÿ7Epra.

B. Past performance. Any first-time applicant for Federal grant funds is subject to a pre-award accounting survey prior to execution of the award. Unsatisfactory performance under prior Federal awards may result in an application not being considered for funding.

C. Pre-award activities. If applicants incur any costs prior to an award being made, they do so solely at their own risk of not being reimbursed by the Government. Notwithstanding any verbal or written assurance that they may have received, there is no obligation on the part of DOC to cover pre-award costs.

D. No obligation of future funding. If an application is selected for funding, DOC has no obligation to provide any additional future funding in connection with the award. Renewal of an award to increase funding or extend the period of performance is at the total discretion of DOC.

E. Delinquent Federal debts. No award of Federal funds shall be made to an applicant or to its subrecipients who have any outstanding delinquent Federal debt or fine until either:

1. The delinquent account is paid in full;

2. A negotiated repayment schedule is established and at least one payment is received; or

3. Other arrangements satisfactory to DOC are made.

F. Name check review. All non-profit and for-profit applicants are subject to a name check review process. Name checks are intended to reveal if any key individuals associated with the applicant have been convicted of, or are presently facing, criminal charges such as fraud, theft, perjury, or other matters that significantly reflect on the applicant's management honesty or financial integrity. Potential non-profit and for-profit recipients may also be subject to reviews of Dun and Bradstreet data or other similar credit checks.

G. Primary applicant certifications. All primary applicants must submit a completed Form CD-511, “Certifications Regarding Debarment, Suspension and Other Responsibility Matters; Drug-Free Workplace Requirements and Lobbying,” and the following explanations are hereby provided:

1. Nonprocurement debarment and suspension. Prospective participants (as defined at 15 CFR 26.105) are subject to 15 CFR part 26, “Nonprocurement Debarment and Suspension” and the related section of the certification form prescribed above applies;

2. Drug-free workplace. Grantees (as defined at 15 CFR 26.605) are subject to 15 CFR part 26, subpart F, “Government-wide Requirements for Drug-Free Workplace (Grants)” and the related section of the certification form prescribed above applies;

3. Anti-lobbying. Persons (as defined at 15 CFR 28.105) are subject to the lobbying provisions of 31 U.S.C. 1352, “Limitation on use of appropriated funds to influence certain Federal contracting and financial transactions,” and the lobbying section of the certification form prescribed above applies to applications/bids for grants, cooperative agreements, and contracts for more than $100,000; and

4. Anti-lobbying disclosures. Any applicant who has paid or will pay for lobbying using any funds must submit a Form SL-LLL, “Disclosure of Lobbying Activities,” as required under 15 CFR part 28, appendix B.

H. Lower tier certifications. Recipients shall require applicants/bidders for subgrants, contracts, subcontracts, or other lower tier covered transactions at any tier under the award to submit, if applicable, a completed Form CD-512, “Certifications Regarding Debarment, Suspension, Ineligibility and Voluntary Exclusion-Lower Tier Covered Transactions and Lobbying” and disclosure form SF-LLL, “Disclosure of Lobbying Activities.” Form CD-512 is intended for the use of recipients and should not be transmitted to DOC. A form SF-LLL submitted by any tier recipient or subrecipient should be submitted to DOC in accordance with the instructions contained in the award document.

I. False statements. A false statement on the application is grounds for denial or termination of funds and grounds for possible punishment by a fine or imprisonment as provided in 18 U.S.C. 1001.

J. Intergovernmental review. Applications under this program are subject to the provisions of Executive Order 12372, “Intergovernmental Review of Federal Programs.”

K. Requirement to buy American-made equipment and products. Applicants are hereby notified that they are encouraged, to the extent feasible, to purchase American-made equipment and products with funding provided under this program.

Classification

Prior notice and an opportunity for public comments are not required by the Administrative Procedure Act or any other law for this notice concerning grants, benefits, and contracts. Therefore, a regulatory flexibility analysis is not required for purposes of the Regulatory Flexibility Act.

This action has been determined to be not significant for purposes of Executive Order 12866.

Cooperative agreements awarded pursuant to pertinent statutes shall be in accordance with the Fisheries Research Plan (comprehensive program of fisheries research) in effect on the date of the award.

Federal participation under the MARFIN Program may include the assignment of DOC scientific personnel and equipment.

Reasonable, negotiated financial compensation will be provided under awards for the work of eligible grantee workers.

Notwithstanding any other provision of law, no person is required to respond to, nor shall any person be subject to a penalty for failure to comply with, a collection of information subject to the requirements of the Paperwork Reduction Act unless that collection of information displays a currently valid OMB control number. This notice contains collection-of-information requirements subject to the Paperwork Reduction Act which have been approved under OMB control number 0648-0175. Public reporting burden for agency-specific collection-of-information elements, exclusive of requirements specified under applicable OMB circulars, is estimated to average 4 hours per response, including the time for reviewing instructions, searching existing data sources, gathering and maintaining the data needed, and completing and reviewing the collection of information. This includes a requirement to submit up to 10 copies of applications. Send comments regarding this reporting burden estimate or any other aspect of this collection of information, including suggestions for reducing the burden, to NMFS (see ADDRESSES).

Authority: 15 U.S.C. 713c-3(d).

Dated: February 15, 2001.
William T. Hogarth,
Acting Assistant Administrator for Fisheries, National Marine Fisheries Service.

[FR Doc. 01-4417 Filed 2-21-01; 8:45 am]

BILLING CODE 3510-22-S